SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Director for Reports Clearance to the addresses or fax numbers shown below.

(OMB), Office of Management and Budget, Attn: Desk Officer for SSA, Fax: 202-395-6974, E-mail address: OIRA_Submission@omb.eop.gov.

(SSA), Social Security Administration, DCBFM, Attn: Director, Center for Reports Clearance, 1333 Annex Building, 6401 Security Blvd., Baltimore, MD 21235, Fax: 410-965-0454, E-mail address: OPLM.RCO@ssa.gov.

I. The information collection below is pending at SSA. SSA will submit it to OMB within 60 days from the date of this notice. To be sure we consider your comments, we must receive them no later than November 23, 2009. Individuals can obtain copies of the collection instrument by calling the SSA Director for Reports Clearance at 410-965-0454 or by writing to the above e-mail address.

1. Application for Widow's or Widower's Insurance Benefits—20 CFR 404.335-404.338, 404.603—0960-0004. SSA uses the information on the SSA-10-BK to determine whether the applicant meets the statutory and regulatory conditions for entitlement to widow(er)'s Social Security Title II benefits. The respondents are applicants for widow's or widower's benefits.

Type of Request: Revision of an OMB-approved information collection.

Number of Respondents: 341,560.

Collection method | Number of respondents | Average burden per response (minutes) | Burden hours
MCS | 162,241 | 15 | 40,560
MCS/Signature Proxy | 162,241 | 14 | 37,856
Paper | 17,078 | 15 | 4,270
Totals: | 341,560 |  | 82,686

Estimated Annual Burden: 82,686 hours.

2. Substitution of Party upon Death of Claimant—20 CFR 404.957(c)(4) and 416.1457(c)(4)—0960-0288. SSA collects information on Form HA-539 when a claimant for Social Security or Supplemental Security Income benefits dies while his or her request for a hearing is pending. The information SSA collects establishes a written record of the request of any individual who asks to be made a substitute party for a deceased claimant. It also facilitates a decision by SSA on whom, if anyone, should become a substitute party for the deceased. The Administrative Law Judge and the hearing office support staff use this information to: (1) Establish the relationship of the requester to the deceased claimant; (2) determine the substituted individual's wishes regarding an oral hearing or decision on the record; and (3) admit the data into the claimant's official record as an exhibit. The respondents are individuals requesting to be made a substitute party for a deceased claimant.

Type of Request: Extension of an OMB-approved information collection.

Number of Respondents: 4,000.

Frequency of Response: 1.

Average Burden Per Response: 5 minutes.

Estimated Annual Burden: 333 hours.

3. Non-Attorney Representative Demonstration Project Application—20 CFR 404.1745-404.1799 and 20 CFR 416.1545-416.1599—0960-0699. Section 303 of the Social Security Protection Act of 2004 (SSPA) provides for a 5-year demonstration project under which SSA extends the direct payment of approved fees to certain non-attorney claimant representatives. Under the SSPA, to be eligible for direct payment of fees, a non-attorney representative must fulfill the following statutory requirements: (1) Possess a bachelors degree or have equivalent qualifications from training and work experience; (2) pass an examination that tests knowledge of the relevant provisions of the Social Security Act; (3) secure professional liability insurance or equivalent insurance; (4) pass a criminal background check; and (5) demonstrate completion of relevant continuing education courses. Through the services of a private contractor, SSA must collect the requested information to determine if a non-attorney representative has met the statutory requirements to be eligible for direct payment of fees for his or her claimant representation services. SSA needs this information to comply with the legislation. The respondents are non-attorney representatives who apply for direct payment of fees.

Type of Request: Revision of an OMB-approved information collection.

Number of Respondents: 700.

Frequency of Response: 1.

Average Burden Per Response: 60 minutes.

Estimated Annual Burden: 700 hours.

4. Medicare Part B Income-Related Monthly Adjustment Amount Subsidies Regulations—20 CFR 418—0960-0741. The Medicare Prescription Drug, Improvement, and Modernization Act (MMA) of 2003 established the Medicare Part B program for voluntary prescription drug coverage of premium, deductible, and co-payment costs for certain low-income individuals. The income-related monthly adjustment amount represents the amount of decrease in the Medicare Part B premium subsidy; i.e., the amount of the Federal Government's contribution to the Federal Supplementary Medical Insurance Trust Fund. SSA uses these regulations to determine when a monthly adjustment amount to a beneficiary's standard monthly premium under Medicare Part B occurs. The respondents are applicants for the Medicare Part B income-related monthly adjustment amount. The regulations sections below contain public reporting requirements for which no OMB-approved forms exist.

Type of Request: Extension of an OMB-approved information collection.

Section | Number of respondents | Frequency of response | Average burden per response (minutes) | Estimated annual burden (hours)
Situation in which beneficiaries ask SSA to examine a different tax return than the one they originally used to make their determination: § 418.1310(a) | 9,820 | 1 | 30 | 4,910
Situations related to requests for new initial determinations based on beneficiary reports that a major life-changing event has significantly reduced their MAGI: § 418.1005(c) § 418.1250 § 418.1255 § 418.1265 | 160,000 | 1 | 30 | 80,000
Situations related to requests for additional new initial determinations and updates of MAGI that a beneficiary provided for a new initial determination: § 418.1235 (c)-(d)§ 418.1240 § 418.1245 | 1,045 | 1 | 30 | 523
Total | 170,865 |  |  | 85,433

Estimated Annual Burden: 85,433.

II. SSA has submitted the information collections we list below to OMB for clearance. Your comments on the information collections would be most useful if OMB and SSA receive them within 30 days from the date of this publication. To be sure we consider your comments, we must receive them no later than October 26, 2009. You can obtain a copy of the OMB clearance packages by calling the SSA Director for Reports Clearance at 410-965-0454 or by writing to the above e-mail address.

1. Waiver of Right to Appear—Disability Hearing—20 CFR 404.913-404.914, 404.916(b)(5), 416.1413-416.1414, 416.1416(b)(5)—0960-0534. SSA uses Form SSA-773-U4 for claimants, or their representatives, to officially waive their right to appear at a disability hearing. The disability hearing officer uses the signed form as a basis for not holding a hearing and for preparing a written decision on the claimants request for disability based solely on the evidence of record. The respondents are claimants, or their representatives, for disability under Titles II and XVI of the Social Security Act, who wish to waive their right to appear at a disability hearing.

Note: This is a correction notice. SSA published this information collection as an extension on July 27, 2009 at 74 FR 37081. Since we are revising the Privacy Act Statement, this is now a revision of an OMB-approved information collection.

Type of Request: Revision of an OMB-approved information collection.

Number of Respondents: 200.

Frequency of Response: 1.

Average Burden Per Response: 3 minutes.

Estimated Annual Burden: 10 hours.

2. Medical Consultant's Review of Physical Residual Functional Capacity Assessment—20 CFR 404.1545-.1546, 404.1640, 404.1643, 404.1645, 416.945-.946—0960-0680. SSA uses Form SSA-392 to facilitate the medical/psychological consultant's review of the Physical Residual Functional Capacity Form, SSA-4734. The SSA-392 records the reviewing medical/psychological consultant's assessment of the SSA-4734. It also documents whether the reviewer agrees or disagrees with how the adjudicator completed the SSA-4734. Medical/psychological consultants prepare the SSA-392 for each SSA-4734 an adjudicator completes. The respondents are medical/psychological consultants who conduct a quality review of adjudicating components' completion of SSA's medical assessment forms.

Note: This is a correction notice. SSA published this information collection as an extension on July 27, 2009 at 74 FR 37081. Since we are revising the Privacy Act Statement, this is now a revision of an OMB-approved information collection.

Type of Request: Revision of an OMB-approved information collection.

Number of Respondents: 256.

Frequency of Response: 359.

Average Burden Per Response: 12 minutes.

Estimated Annual Burden: 18,381 hours.

3. Statement of Reclamation Action—31 CFR 210—0960-0734. SSA uses Form SSA-1713 to collect information to determine if a Canadian bank is able to return erroneous payments, and to determine how and when it can return the payments made after the death of a beneficiary who elected to have payments sent to Canada. Form SSA-1712 (or SSA-1712 CN) is the cover sheet SSA prepares to request return of a payment erroneously made after the death of the recipient. SSA sends Form SSA—1712 with Form SSA-1713. The respondents are Canadian financial institutions that received Social Security payments.

Note: This is a correction notice. SSA published this information collection as an extension on July 10, 2009 at 74 FR 33313. Since we are revising the Privacy Act Statement, this is now a revision of an OMB-approved information collection.

Type of Request: Revision of an OMB-approved information collection.

Number of Respondents: 15.

Frequency of Response: 1.

Average Burden Per Response: 5 minutes.

Estimated Annual Burden: 1 hour.

Dated: September 18, 2009.
Elizabeth A. Davidson,
Director, Center for Reports Clearance, Social Security Administration.

[FR Doc. E9-23074 Filed 9-23-09; 8:45 am]

BILLING CODE 4191-02-P